DEPARTMENT OF ENERGY

Office of Science; Office of Science Financial Assistance Program Notice 01-15: Energy Biosciences

AGENCY: U.S. Department of Energy (DOE).

ACTION: Notice inviting grant applications.

SUMMARY: The Office of Basic Energy Sciences of the Office of Science (SC), U.S. Department of Energy (DOE) invites preapplications from potential applicants for research funding in the Energy Biosciences program area. The intent in asking for a preapplication is to save the time and effort of applicants in preparing and submitting a formal project application that may be inappropriate for the program. The preapplication should consist of a two to three page concept paper that focuses on the scientific objectives and basic research approaches planned. No budget information or biographical data need be included; nor is an institutional endorsement necessary. The preapplication gives us the opportunity to advise potential applicants on the suitability of the scope of the research proposed to the mission of the DOE Energy Biosciences program. A response indicating the appropriateness of submitting a formal application will be sent from the Energy Biosciences program office in time to allow for an adequate preparation period for a formal application.

DATES: For timely consideration, all preapplications should be received by March 1, 2001. However, earlier submissions will be gladly accepted. A response to timely preapplications will be communicated to the applicant by April 12, 2001. The deadline for receipt of formal applications is June 13, 2001.

ADDRESSES: Preapplications referencing Program Notice 01-15 should be forwarded to: U.S. Department of Energy, Office of Basic Energy Sciences, SC-143, Chemical Sciences, Geosciences and Biosciences Division, 19901 Germantown Road, Germantown, MD 20874-1290, Attn: Program Notice 01-15. Fax submissions are acceptable (Fax Number (301) 903-1003).

Formal applications, referencing Program Notice 01-15, must be sent to: U.S. Department of Energy, Office of Science, Grants and Contracts Division, SC-64, 19901 Germantown Road, Germantown, MD 20874-1290, ATTN: Program Notice 01-15. This address must also be used when submitting applications by U.S. Postal Service Express Mail or any commercial overnight delivery service, or when hand-carried by the applicant.

FOR FURTHER INFORMATION CONTACT: Ms. Pat Snyder, Chemical Sciences, Geosciences and Biosciences Division, Office of Basic Energy Sciences, SC-143, 19901 Germantown Road, Germantown, MD 20874-1290, telephone (301) 903-2873; E-mail pat.snyder@science.doe.gov.

SUPPLEMENTARY INFORMATION: Potential applicants should submit a brief preapplication which consists of two to three pages of narrative describing research objectives. These will be reviewed relative to the scope and the research needs of the Energy Biosciences program. The principal purpose in using preapplications is to reduce the expenditure of time and effort of all parties.

The Energy Biosciences program has the mission of generating knowledge about plants and non-medical related microorganisms that provide scientific foundations for future energy related biotechnologies. The objective is to pursue basic biochemical, genetic and physiological investigations that may contribute towards providing alternate fuels, petroleum replacement products, energy conservation measures as well as other technologies related to DOE programs. Areas of interest include bioenergetic systems, including photosynthesis; control of plant growth and development, including metabolic, genetic, and hormonal and ambient factor regulation, metabolic diversity, ion uptake, transport and accumulation, stress physiology and adaptation; genetic transmission and expression; plant-microbial interactions; plant cell wall structure and function; lignocellulose degradative mechanisms; mechanisms of fermentations, genetics of neglected microorganisms, energetics and membrane phenomena; thermophily (molecular basis of high temperature tolerance); microbial interactions; and one-carbon metabolism, which is the basis of biotransformations such as methanogenesis. The program also encourages fundamental research in the biological sciences that interfaces with other traditional disciplines in the physical sciences. The objective is to discern and understand basic mechanisms and principles.

Funds are expected to be available for new grant awards in FY 2002. The magnitude of these funds available and the number of awards, which can be made, will depend on the budget process. The awards made during FY 2000 averaged close to $105,000 per year, mostly for a three-year duration.

When a formal application is made, it must be 10 pages or less, exclusive of figure illustrations, and include the hypotheses being tested and the proposed experimental design. Additional pages must include a one-page abstract or summary of the proposed research, curriculum vitae, a listing of all current and pending federal support, and letters of intent when collaborations are part of the proposed research.

Information about development and submission of applications, eligibility, limitations, evaluations and selection processes, and other policies and procedures may be found in the 10 CFR Part 605 and the Application Guide for the Office of Science Financial Assistance Program. Electronic access to SC's Financial Assistance Guide is possible via the Internet using the following Web Site address: http://www.sc.doe.gov/production/grants/grants.html.

DOE is under no obligation to pay for any costs associated with the preparation or submission of applications if an award is not made.

The Catalog of Federal Domestic Assistance number for this program is 81.049, and the solicitation control number is ERFAP 10 CFR Part 605.

Issued in Washington, DC on December 19, 2000.
John Rodney Clark,
Associate Director of Science for Resource Management.

[FR Doc. 01-77 Filed 1-2-01; 8:45 am]

BILLING CODE 6450-01-P